DEPARTMENT OF JUSTICE

[OMB Number 1121-0312]

Agency Information Collection Activities; Proposed eCollection eComments Requested; Survey of State Criminal History Information Systems (SSCHIS)

AGENCY: Bureau of Justice Statistics, Office of Justice Programs, Department of Justice.

ACTION: 30-Day notice.

SUMMARY: The Department of Justice (DOJ), Office of Justice Programs, Bureau of Justice Statistics, will be submitting the following information collection request to the Office of Management and Budget (OMB) for review and approval in accordance with the Paperwork Reduction Act of 1995. The proposed information was published in the Federal Register on March 21, 2023, allowing a 60-day comment period. Following publication of the 60-day notice, the Bureau of Justice Statistics received no comments.

DATES: Comments are encouraged and will be accepted for 30 days until July 3, 2023.

FOR FURTHER INFORMATION CONTACT: If you have comments especially on the estimated public burden or associated response time, suggestions, or need a copy of the proposed information collection instrument with instructions or additional information, please contact: Devon Adams, Deputy Director, Bureau of Justice Statistics, 810 Seventh Street NW, Washington, DC 20531 (email: devon.adams@usdoj.gov; telephone: 202-305-0765).

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Written comments and recommendations for this information collection should be submitted within 30 days of the publication of this notice on the following website www.reginfo.gov/public/do/PRAMain. Find this particular information collection by selecting “Currently under 30-day Review—Open for Public Comments” or by using the search function and entering either the title of the information collection or the OMB Control Number 1121-0312. This information collection request may be viewed at www.reginfo.gov. Follow the instructions to view Department of Justice, information collections currently under review by OMB.

DOJ seeks PRA authorization for this information collection for three (3) years. OMB authorization for an ICR cannot be for more than three (3) years without renewal. The DOJ notes that information collection requirements submitted to the OMB for existing ICRs receive a month-to-month extension while they undergo review.

Overview of This Information Collection

(1) Type of Information Collection: Revision of a currently collection approved collection.

(2) The Title of the Form/Collection: Survey of State Criminal History Information Systems (SSCHIS).

(3) The agency form number, if any, and the applicable component of the Department sponsoring the collection: The form number is N/A. The applicable component within the Department of Justice is the Bureau of Justice Statistics, in the Office of Justice Programs.

(4) Affected public who will be asked or required to respond, as well as a brief abstract: Affected Public: State, Local and Tribal governments. Abstract: The SSCHIS report, the most comprehensive data available on the collection and maintenance of information by state criminal history record systems, describes the status of such systems and record repositories on a biennial basis. Data collected from state record repositories serves as the basis for estimating the percentage of total state records that are immediately available through the FBI's Interstate Identification Index (III), and the percentage of arrest records that include dispositions. Other data presented include the number of records maintained by each state, the percentage of automated records in the system, and the number of states participating in the National Fingerprint File and the National Crime Prevention and Privacy Compact which authorizes the interstate exchange of criminal history records for noncriminal justice purposes. The SSCHIS also contains information regarding the timeliness and completeness of data in state record systems and procedures employed to improve data quality.

(5) Obligation to Respond: Voluntary.

(6) Total Estimated Number of Respondents: 56.

(7) Estimated Time per Respondent: 4 hours.

(8) Frequency: Biennially.

(9) Total Estimated Annual Time Burden: 224 hours.

(10) Total Estimated Annual Other Costs Burden: $51,839.

If additional information is required, contact: John R. Carlson, Department Clearance Officer, United States Department of Justice, Justice Management Division, Policy and Planning Staff, Two Constitution Square, 145 N Street NE, 4W-218, Washington, DC 20530.

Dated: May 23, 2023.
John R. Carlson,
Department Clearance Officer for PRA, U.S. Department of Justice.

[FR Doc. 2023-11594 Filed 5-31-23; 8:45 am]

BILLING CODE 4410-18-P